DEPARTMENT OF AGRICULTURE

Natural Resources Conservation Service

Notice of Proposed Change to Section IV of the Caribbean Area Field Office Technical Guide

AGENCY: Natural Resources Conservation Service (NRCS), U.S. Department of Agriculture.

ACTION: Notice of Availability of proposed changes in the Caribbean Area NRCS Field Office Technical Guide for review and comment.

SUMMARY: The NRCS Director for the Caribbean Area has determined that change must be made in the Field Office Technical Guide, specifically, in Conservation Practice Standards for Nutrient Management (590) and Waster utilization (633). These practices will be used to plan and install conservation practices on cropland, pastureland, woodland, and wildlife land.

DATES: Comments will be received on or before September 20, 2001.

FOR FURTHER INFORMATION CONTACT: Inquire in writing to Juan A. Martinez, Director, Natural Resources Conservation Service (NRCS), P.O. Box 364868, San Juan, PR 00936-4868, Telephone Number (787) 766-5206, Extension 237, Fax number (787) 766-5987. Copies of the Practice Standards will be made available upon request to the address shown above.

SUPPLEMENTARY INFORMATION: Section 343 of the Federal Agriculture Improvement and Reform Act of 1996, states that revisions made after enactment of the law to NRCS Technical Guides used to carry out highly erodible land and wetland provisions of the law shall be made available for public review and comment. For the next 30 days, the NRCS in the Caribbean Area will receive comments relative to the proposed changes. Following that period, a determination will be made by the NRCS in the Caribbean Area regarding disposition of those comments and a final determination of change will be made to the subject standards.

Dated: June 29, 2001.
Jose E. Martinez,
Staff Resource Conservationist, Natural Resources Conservation Service, Caribbean Area.

[FR Doc. 01-20943 Filed 8-20-01; 8:45 am]

BILLING CODE 3410-16-M